DEPARTMENT OF JUSTICE

Notice of Lodging of Proposed Consent Decree Under the Safe Drinking Water Act

On January 13, 2017, the Department of Justice filed a complaint and lodged a proposed Consent Decree with the United States District Court for the District of Kansas in the lawsuit entitled United States v. The City of Pretty Prairie, Kansas, Civil Action No. 17-cv-01014.

In this action under 42 U.S.C. 300f et seq. of the Safe Drinking Water Act (“SDWA”) and the regulations promulgated thereunder at 40 CFR part 141, the United States sought civil penalties for violations of the Maximum Contaminant Level for nitrate of 10 milligrams per Liter. The proposed Decree requires Defendants to perform injunctive relief and pay to the United States civil penalties of $1,500.00 within thirty (30) days of the entry of the Decree.

The publication of this notice opens a period for public comment on the Consent Decree. Comments should be addressed to the Assistant Attorney General, Environment and Natural Resources Division, and should refer to United States v. The City of Pretty Prairie, Kansas, D.J. Ref. No. 90-5-1-1-11526. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Susan Akers,
Assistant Section Chief, Environmental Enforcement Section, Environment and Natural Resources Division.

[FR Doc. 2017-01427 Filed 1-19-17; 8:45 am]

BILLING CODE 4410-15-P